COMMITTEE FOR PURCHASE FROM PEOPLE WHO ARE BLIND OR SEVERELY DISABLED

Procurement List; Proposed Additions and Deletion

AGENCY: Committee for Purchase from People Who are Blind or Severely Disabled.

ACTION: Proposed Additions to and Deletion from the Procurement List.

SUMMARY: The Committee is proposing to add services to the Procurement List that will be furnished by nonprofit agencies employing persons who are blind or have other severe disabilities, and deletes a service previously furnished by such agency.

DATES: Comments Must Be Received on or Before: 11/2/2015.

ADDRESSES: Committee for Purchase from People Who are Blind or Severely Disabled, 1401 S. Clark Street, Suite 715, Arlington, Virginia 22202-4149.

FOR FURTHER INFORMATION CONTACT: For further information or to submit comments contact Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to provide the services listed below from nonprofit agencies employing persons who are blind or have other severe disabilities.

The following services are proposed for addition to the Procurement List for production by the nonprofit agencies listed:

Services

Service Type: Custodial Service

Service is Mandatory For: DoDEA, Domestic Dependent Elementary and Secondary Schools, Andersen Elementary and Middle Schools, Andersen AFB, 1600 Ponape Avenue, Yigo, GU

District Superintendent's Office, Naval Hospital Base, 101 Johnson Road, Agana Heights, GU

Guam High School, Naval Hospital Base, Agana Heights, GU

Commander William C. McCool Elementary/Middle School, US Naval Base Guam, 311 Amaryllis Avenue, Sumay, GU

Mandatory Source(s) of Supply: iCAN Resources, Inc., Dededo, GU

Contracting Activity: Dept of Defense Education Activity (DODEA), Dodds Pacific Director's Office, APO, AP

Service Type: Janitorial Service

Service is Mandatory For: USDA Forest Service, Salmon/Cobalt Ranger District, Salmon-Challis National Forest, 311 McPherson Street, Salmon, ID

Mandatory Source(s) of Supply: Development Workshop, Inc., Idaho Falls, ID

Contracting Activity: Department of Agriculture, Forest Service, Caribou-Targhee National Forest, Idaho Falls, ID

Service Type: Landscaping Service

Service is Mandatory For: GSA PBS Region 1, John F. Kennedy Federal Building, 25 New Sudbury Street, Boston, MA

Mandatory Source(s) of Supply: Work, Incorporated, Dorchester, MA

Contracting Activity: GSA/Public Buildings Service, Boston, MA

Deletion

The following service is proposed for deletion from the Procurement List:

Service

Service Type/Location: Custodial Service, Isle Royale National Park & Ranger III Vessel, 800 East Lakeshore Drive, Houghton, MI

Mandatory Source(s) of Supply: Goodwill Industries of Northern Wisconsin & Upper Michigan, Inc., Marinette, WI

Contracting Activity: Dept of the Interior, National Park Service, MWR Regional Contracting, Omaha, NE

Barry S. Lineback,
Director, Business Operations.

[FR Doc. 2015-25103 Filed 10-1-15; 8:45 am]

BILLING CODE 6353-01-P